OFFICE OF PERSONNEL MANAGEMENT

5 CFR Part 731

RIN 3206-AC19

Suitability

AGENCY: U.S. Office of Personnel Management.

ACTION: Final rule, extension of effective date.

SUMMARY: The Office of Personnel Management (OPM) published a final rule on personnel suitability on December 28, 2000 in the Federal Register (65 FR 82239). Based on a memorandum received from the Assistant to the President and Chief of Staff outlining the President's plan for Regulatory Review, the implementation of these rules has been extended to allow adequate review. The effective date for implementation or these rules is being extended 60 days until March 30, 2001.

DATES: Effective: March 30, 2001.

FOR FURTHER INFORMATION CONTACT: Thomas DelPozzo, (724) 794-5612.

Office of Personnel Management.
Steven R. Cohen,
Acting Director.

[FR Doc. 01-2476 Filed 1-24-01; 12:55 pm]

BILLING CODE 6325-40-P